DEPARTMENT OF HEALTH AND HUMAN SERVICES

National Institutes of Health

Center for Scientific Review; Amended Notice of Meeting

Notice is hereby given of a change in the meeting of the Center for Scientific Review Special Emphasis Panel RFA-RM-19-008: NIH Director's Early Independence Award Review, March 18, 2020, 9:00 a.m. to March 19, 2020, 3:00 p.m. at the National Institutes of Health, 6701 Rockledge Drive, Bethesda, MD 20892, which was published in the Federal Register on February 20, 2020, 85 FR 9787.

The meeting format of the Special Emphasis Panel RFA-RM-19-008: NIH Director's Early Independence Award Review has been changed to a Video Assisted Meeting. The meeting date, time and location remain the same. The meeting is closed to the public.

Dated: March 11, 2020.
Miguelina Perez,
Program Analyst, Office of Federal Advisory Committee Policy.

[FR Doc. 2020-05405 Filed 3-16-20; 8:45 am]

BILLING CODE 4140-01-P